DEPARTMENT OF HEALTH AND HUMAN SERVICES

Office of the Secretary

Office of Public Health and Science; Statement of Organizations, Functions, and Delegations of Authority

Part A, Office of the Secretary (OS), Chapter AC, Office of Public Health and Science (OPHS), of the Statement of Organization, Functions, and Delegations of Authority for the Department of Health and Human Services (60 FR 56605-06, November 9, 1995), as previously amended at 60 FR 471-3, January 4, 1995, and 58 FR 107, January 4, 1993, is amended to reflect the realignment of the functions within the Office on Women's Health (OWH), OPHS, to provide a critically needed management substructure to assist the Director in the planning, coordination, and operation of the OWH.

The changes are as follows:

I. Under Chapter AC, Office of Public Health and Science, Section AC.20 Functions, delete paragraph B, “Office on Women's Health (ACB),” in its entirety, and replace with the following:

B. Office on Women's Health (ACB)—The Office on Women's Health is headed by the Deputy Assistant Secretary for Health (Women's Health), who reports to the Assistant Secretary for Health, is Director of the Office on Women's Health, and serves as the principal advisor on scientific, ethical, and policy issues relating to women's health. The issues cut across all HHS components which provide research, service, prevention, promotion, treatment, training, education and dissemination of information relating to women's health.

1. Immediate Office of the Director (ACB1). The Immediate Office of the Director, headed by the Deputy Assistant Secretary of Health (Women's Health), coordinates the programmatic aspects of HHS components in regard to issues relating to women's health; serves as the locus within HHS to identify changing needs, to recommend new studies, and to assess new challenges to the health of women; serves as a focal point within HHS to coordinate the continuing implementation of health objectives for the future; assures liaison with relevant HHS agencies and offices; and facilitates the expansion of services and access to health care for all women.

Plans and directs financial management activities, including budget formulation and execution; provides liaison on personnel management activities with the OPHS, and the Program Support Center; and is responsible for implementing the Congressional, international health, national (regional) components for the OWH mission. The Office will also provide scientific analyses for all initiatives.

2. Division of Program Coordination (ACB2). The Division of Program Coordination (DPC), headed by the Division Director, advises the OWH Director on the development of strategic and operational plans and provides staff support to and liaison with program staff in coordinating, integrating, and articulating these plans; advises the OWH Director on policy issues; develops plans for evaluating the focus and impact of ongoing programs and the development of new programs and policies; and provides analytical reports of program trends and future forecasts.

3. Division of Outreach and Collaboration (ACB3). The Division of Outreach and Collaboration (DOB), headed by the Division Director, provides oversight and direction to the OWH's communication programs consistent with policy direction established by the Office of the Assistant Secretary for Public Affairs; systematically captures, assesses, and disseminates information on scientific and policy developments relating to women's health research results and current or emerging trends and issues; manages the OWH information, education and awareness activities both within the Department and externally; coordinates, assigns, develops, researches, and prepares briefing materials on women's health for OWH Director and other HHS offices; manages public information activities and media and press relations; plans and coordinates efforts to promote the OWH's programs and policies in the voluntary and corporate sectors; manages exhibits; and develops visual and other graphic materials for the OWH.

II. Under Chapter AC, Office of Public Health and Science, Section AC.20 Functions, at the end of Paragraph A, “Immediate Office (ACA),” add the following statement:

(19) Provide administrative and management support to the President's Council on Bioethics.

Dated: October 1, 2007.
Joe W. Ellis,
Assistant Secretary for Administration and Management.

[FR Doc. 07-5046 Filed 10-11-07; 8:45 am]

BILLING CODE 4150-33-M